DEPARTMENT OF COMMERCE

National Oceanic and Atmospheric Administration

RIN 0648-XG242

Fisheries of the Northeastern United States; Bluefish Fishery; Scoping Process; Correction

AGENCY: National Marine Fisheries Service (NMFS), National Oceanic and Atmospheric Administration (NOAA), Commerce.

ACTION: Notice of intent to prepare an environmental impact statement; notice of initiation of scoping process; notice of public scoping meetings; requests for comments; correction.

SUMMARY: This action corrects the DATES, ADDRESSES, and SUPPLEMENTARY INFORMATION sections of a notice published on June 6, 2018, which contained some incorrect information that could leave the public misinformed. This notice extends the end date of the comment period, changes the location of a scoping hearing, and adds a sentence to clarify which scoping hearings will be joint Mid-Atlantic Fishery Management Council and the Atlantic States Marine Fisheries Commission hearings.

DATES: The deadline for receipt of comments on the notice of intent published on June 6, 2018 (83 FR 26267), is extended to July 30, 2018. Written comments must be received on or before 11:59 p.m., EDT, on July 30, 2018. Twelve public scoping meetings will be held during this comment period.

ADDRESSES: Written comments on the referenced notice may be sent by any of the following methods:

• Email to the following address: nmfs.garBluefishAmend@noaa.gov. Include “Bluefish Allocation Amendment Scoping Comments” in the subject line;

• Mail or hand deliver to Dr. Christopher M. Moore, Executive Director; Mid-Atlantic Fishery Management Council, 800 North State Street, Suite 201, Dover, Delaware 19901. Mark the outside of the envelope “Bluefish Allocation Amendment Scoping Comments”; or

• Fax to (302) 674-5399.

The scoping document may be obtained from the Council office at the previously provided address, by request to the Council by telephone (302) 674-2331, or via the internet at http://www.mafmc.org.

Comments may also be provided verbally at any of the 12 public scoping meetings. Hearings will be held June 20-July 16 in nine coastal states from Massachusetts to Florida. The last four hearings will be joint hearings of the Council and Commission. See SUPPLEMENTARY INFORMATION of the original notice (83 FR 26267), and the corrections made below, for dates, times, and locations.

FOR FURTHER INFORMATION CONTACT: Dr. Christopher M. Moore, Mid-Atlantic Fishery Management Council, 800 North State Street, Suite 201, Dover, DE 19901; telephone: 302-674-2331.

SUPPLEMENTARY INFORMATION:

Background

On June 6, 2018, NMFS published a notice of intent (NOI) and scoping announcement (83 FR 26267) to provide background information and to request public comment on potential adjustments to the Bluefish Fishery Management Plan (FMP) through an allocation amendment. The NOI provides the public with a formal opportunity to comment on the specific ideas mentioned in the scoping document, as well as any additional ideas and solutions that could improve Bluefish FMP.

Need for Correction

In the original notice, the established comment period ended on July 6, 2018, before the last four scoping hearings were scheduled to take place, and without adequate time to receive public comment following the hearings. This correction extends the comment period to July 30, 2018, to appropriately encompass all of the scoping hearings, and to provide the Commission more time to accept final comments. In addition to the extension of the comment period, the location of the scoping hearing in Dover, Delaware, needed to be changed due to building availability. The date and time of this meeting (Thursday, June 21, 2018, at 6:00 p.m.) will remain the same.

Correction

In FR Doc. 2018-12105, in the Federal Register of Wednesday, June 6, 2018, on page 26268, in the second column of the table, in the fifth line, the address for the Delaware scoping hearing is corrected to read as follows:

“Dover Public Library, 35 E. Loockerman St, Dover, Delaware 19901.”

Authority: 16 U.S.C. 1801 et seq.

Dated: June 15, 2018.
Jennifer M. Wallace,
Acting Director, Office of Sustainable Fisheries, National Marine Fisheries Service.

[FR Doc. 2018-13277 Filed 6-20-18; 8:45 am]

BILLING CODE 3510-22-P